DEPARTMENT OF TRANSPORTATION

Federal Aviation Administration

14 CFR Part 39

[Docket No. FAA-2016-9517; Directorate Identifier 2016-NM-100-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200, A330-200 Freighter, A330-300, A340-500, and A340-600 series airplanes; and A340-313 airplanes. This proposed AD was prompted by the discovery of Tartaric Sulfuric Anodizing (TSA)/Chromic Acid Anodizing (CAA) surface treatment in certain bulk cargo door frame holes of certain airplanes. This proposed AD would require inspection of the fuselage bulk cargo door frames at specific locations, and corrective action if necessary. We are proposing this AD to address the unsafe condition on these products.

DATES: We must receive comments on this proposed AD by February 13, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9517; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2016-9517; Directorate Identifier 2016-NM-100-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2016-0102, dated June 1, 2016; corrected June 7, 2016 (referred to after this as the Mandatory Continuing Airworthiness Information, or “the MCAI”); to correct an unsafe condition for all Airbus Model A330-200, A330-200 Freighter, A330-300, A340-500, and A340-600 series airplanes; and A340-313 airplanes. The MCAI states:

In the frame of the certification of the A330 Extended Service Goal exercise, it has been identified that Tartaric Sulfuric Anodising (TSA)/Chromic Acid Anodising (CAA) surface treatment is present in some frame holes, from aeroplane MSN 0400 and later MSN, following production process modification. On bulk cargo door frames (FR) 67 and FR 69 Right Hand Side, the door fitting attachment holes have this TSA/CAA treatment, which leads to a detrimental effect on fatigue behaviour. This condition, if not detected and corrected, could lead to critical cracks in the primary structure, possibly resulting in in-flight loss of a bulk cargo door, consequent decompression and potential damage to the aeroplane that could reduce the control of the aeroplane.

To address this potential unsafe condition, Airbus issued Alert Operators Transmission (AOT) A53L012-16 to provide instructions to inspect the fuselage bulk cargo door frames at specific locations.

For the reasons described above, this [EASA] AD requires repetitive non-destructive test (rototest and high-frequency eddy-current (HFEC)) inspection or visual detailed (DET) inspections [to detect cracking] of the affected areas, and, depending on findings, accomplishment of a repair.

This [EASA] AD is considered an interim measure, and further [EASA] AD action may follow.

You may examine the MCAI in the AD docket on the Internet at http://www.regulations.gov by searching for and locating Docket No. FAA-2016-9517.

Related Service Information Under 1 CFR Part 51

We reviewed Airbus Alert Operators Transmission (AOT), AOT A53L012-16, Revision 00, including Appendices 1 through 6, dated May 30, 2016:

• Appendix 1. Technical disposition TD_K48_S3_01755_2016, Issue B, dated May 12, 2016.

• Appendix 2. Technical disposition TD_K48_S3_01754_2016, Issue B, dated May 12, 2016.

• Appendix 3. Technical disposition TD_K48_S3_01772_2016, Issue A, dated May 12, 2016.

• Appendix 4. Technical disposition TD_K48_S3_01773_2016, Issue A, dated May 12, 2016.

• Appendix 5. AOT A53L012-16, Revision 00, undated, titled Appendix 4: AOT reporting sheet 1; and AOT A53L012-16, Revision 00, undated, titled Appendix 4: AOT reporting sheet 2. (Appendix 5 of this document is incorrectly identified as “Appendix 4.”).

• Appendix 6. Non-destructive Testing Manual Procedure 53-40-18, “Bulk Cargo Compartment Door Cut-Out Lateral Frames at Bulk Door-Fittings FR67 at STGR 37 and at STGR 42 and FR 69 at STRG 38 and at STGR 45,” advanced copy approved for use, dated May 18, 2016.

The service information describes procedures for inspections of the fuselage bulk cargo frames at the door support and latch fittings location; repair instructions; and reporting instructions. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 96 airplanes of U.S. registry.

We estimate the following costs to comply with this proposed AD:

Estimated Costs
Action | Labor cost | Parts cost | Cost per product | Cost on U.S. operators
Inspection | 2 work-hours × $85 per hour = $170 per inspection cycle | $0 | $170 per inspection cycle | $16,320 per inspection cycle.
Reporting | 1 work-hour × $85 per hour = $85 | 0 | $85 | $8,160.

We estimate the following costs to do any necessary replacements that would be required based on the results of the proposed inspection. We have no way of determining the number of airplanes that might need this replacement:

On-Condition Costs
Action | Labor cost | Parts cost | Cost per product
Optional door frame replacement | 200 work-hours × $85 per hour = $17,000 | $68,000 | $85,000

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9517; Directorate Identifier 2016-NM-100-AD.

(a) Comments Due Date

We must receive comments by February 13, 2017.

(b) Affected ADs

None.

(c) Applicability

This AD applies to the following Airbus airplanes, certificated in any category, manufacturer serial numbers (MSNs) 0400 and higher.

(1) Airbus Model A330-201, -202, -203, -223, and -243 airplanes.

(2) Airbus Model A330-223F and -243F airplanes.

(3) Airbus Model A330-301, -302, -303, -321, -322, -323, -341, -342, and -343 airplanes.

(4) Airbus Model A340-313 airplanes.

(5) Airbus Model A340-541 airplanes.

(6) Airbus Model A340-642 airplanes.

(d) Subject

Air Transport Association (ATA) of America Code 53, Fuselage.

(e) Reason

This AD was prompted by the discovery of Tartaric Sulfuric Anodizing (TSA)/Chromic Acid Anodizing (CAA) surface treatment in certain bulk cargo door frame holes of airplanes with MSNs 0400 and higher. We are issuing this AD to detect and correct fatigue cracks in the bulk cargo door frames, caused by TSA/CAA surface treatment in certain bulk cargo door frame holes. Cracks in the bulk cargo door frames can cause the in-flight loss of a bulk cargo door, damage to the airplane and subsequent reduced control of the airplane.

(f) Compliance

Comply with this AD within the compliance times specified, unless already done.

(g) Initial Inspection

At the applicable compliance time specified in table 1 to paragraph (g) of this AD, do the actions specified in paragraph (g)(1) or (g)(2) of this AD, in accordance with the instructions of Airbus Alert Operators Transmission (AOT), AOT A53L012-16, Revision 00, dated May 30, 2016.

(1) Accomplish a rototest inspection to detect cracking of the holes for the bulk cargo door support fittings at fuselage frame (FR) 67 and FR 69, and a high-frequency eddy-current (HFEC) inspection of the holes for the door latch fitting at FR 69.

(2) Accomplish a detailed visual inspection to detect cracking in the bulk cargo door support fittings at FR 67 and FR 69 and the holes for the door latch fitting at FR 69.

Table 1 to Paragraph (g) of This AD—Initial Inspection
Total flight cycles accumulated since airplane first flight, on the effective date of this AD | Compliance time
12,500 total flight cycles or more | Within 200 flight cycles or 2 months, whichever occurs first, after the effective date of this AD.
Fewer than 12,500 total flight cycles | Within 200 flight cycles or 2 months, whichever occurs first, after exceeding 12,500 flight cycles.

(h) Repetitive Inspections

At intervals not to exceed the values specified in table 2 to paragraph (h) of this AD, as applicable, depending on the previously selected inspection method, repeat the inspection(s) specified in either paragraph (g)(1) or (g)(2) of this AD.

Table 2 to Paragraph (h) of This AD—Repetitive Inspections
Inspection method | Inspection interval
Detailed visual inspection | 150 flight cycles.
Rototest and HFEC inspections | 2,900 flight cycles.

(i) Repair

If, during any inspection required by paragraph (g) or (h) of this AD, any crack is detected, before further flight, repair using a method approved by the Manager, International Branch, ANM-116, Transport Airplane Directorate, FAA; or the European Aviation Safety Agency (EASA); or Airbus's EASA Design Organization Approval (DOA).

(j) Terminating Action

Accomplishment of a repair on an airplane, as required by paragraph (i) of this AD, does not constitute terminating action for the inspections required by this AD for that airplane, unless otherwise specified in repair instructions approved by the Manager, International Branch, ANM-116, Transport Airplane Directorate, FAA; or EASA; or Airbus's EASA DOA.

(k) Reporting

After the initial inspection specified in paragraph (g) of this AD, and after each repetitive inspection specified in paragraph (h) of this AD, at the applicable times specified in paragraph (k)(1) and (k)(2) of this AD: Report inspection findings, both positive and negative, to Airbus in accordance with the instructions of Airbus AOT A53L012-16, Revision 00, dated May 30, 2016.

(1) If the inspection was done on or after the effective date of this AD: Submit the report within 30 days after the inspection.

(2) If the inspection was done before the effective date of this AD: Submit the report within 30 days after the effective date of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

(1) Refer to Mandatory Continuing Airworthiness Information (MCAI) EASA AD 2016-0102, dated June 1, 2016; corrected June 7, 2016, for related information. You may examine the MCAI on the Internet at http://www.regulations.gov by searching for and locating Docket No. FAA-2016-9517.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on December 2, 2016.
Michael Kaszycki,
Acting Manager, Transport Airplane Directorate, Aircraft Certification Service.

[FR Doc. 2016-30611 Filed 12-27-16; 8:45 am]

BILLING CODE 4910-13-P